DEPARTMENT OF EDUCATION

[Docket No.: ED-2019-ICCD-0100]

Agency Information Collection Activities; Comment Request; 2019 Immediate Aid To Restart School Operations

AGENCY: Office of Elementary and Secondary Education (OESE), Department of Education (ED).

ACTION: Notice.

SUMMARY: In accordance with the Paperwork Reduction Act of 1995, ED is requesting the Office of Management and Budget (OMB) to conduct an emergency review of a new information collection.

DATES: Approval by the OMB has been requested by before August 30, 2019. A regular clearance process is also hereby being initiated. Interested persons are invited to submit comments on or before October 28, 2019.

ADDRESSES: To access and review all the documents related to the information collection listed in this notice, please use http://www.regulations.gov by searching the Docket ID number ED-2019-ICCD-0100. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Molly Budman, 202-453-5791.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2019 Immediate Aid to Restart School Operations.

OMB Control Number: 1810-NEW.

Type of Review: A new information collection.

Respondents/Affected Public: State, Local, and Tribal Governments.

Total Estimated Number of Annual Responses: 31.

Total Estimated Number of Annual Burden Hours: 1,240.

Abstract: This is an emergency collection request for 2019 Immediate Aid to Restart School Operations. The Additional Supplemental Appropriations for Disaster Relief Act, 2019 (Pub. L. 116-20, hereafter referred to as the Disaster Supplemental) was signed into law by President Trump on June 6, 2019. The law provides $165 million for education-related disaster recovery activities for certain natural disasters in 2018 and 2019 for which a major disaster or emergency (covered disasters) has been declared by the President.

The Department of Education plans to use the discretion afforded to the Secretary by the Disaster Supplemental to implement four programs: Immediate Aid to Restart School Operations program (Restart), Emergency Impact Aid for Displaced Students (EIA), Emergency Assistance to Institutions of Higher Education program (Emergency Assistance to IHEs), and Project School Emergency Response to Violence (Project SERV).

Under this request, the Department is seeking emergency clearance for the 2019 Restart Program. Under this program, the Department will award Restart funding to SEAs, which, in turn, will provide assistance to LEAs to defray expenses related to the restart of operations in, the reopening of, and the re-enrollment of students in elementary and secondary schools that serve an area affected by a covered disaster.

Due to the severe impact (e.g., physical, social, emotional) of the covered programs and the degree to which they have disrupted teaching and learning, we are requesting emergency clearance by August 30, 2019. In light of the late enactment of the Disaster Supplemental and the fact that the 2018-2019 school year is effectively over, it is critical that these data are collected quickly, to enable ED to make timely payments and provide necessary relief.

Additional Information: An emergency clearance approval for the use of the system is described below due to the following conditions:

The Additional Supplemental Appropriations for Disaster Relief Act of 2019, signed into law by President Trump on June 06, 2019, included new funding to support disaster relief. The U.S. Department of Education (Department) will award up to $165 million to assist K-12 schools and school districts in meeting the educational needs of students affected by Hurricanes Florence and Michael, Typhoon Mangkhut, Super Typhoon Yutu, and wildfires, earthquakes, and volcanic eruptions occurring in calendar year 2018 and tornadoes and floods occurring in calendar year 2019 in those areas for which a major disaster or emergency is declared under section 401 or 501 of the Robert T. Stafford Disaster Relief and Emergency Act (42 U.S.C. 5170 and 5190).This disaster assistance will help schools and school districts return to their full capabilities as quickly and effectively as possible. Pursuant to 5 CFR 1320.13, the Department requests that OMB review and approved this collection by August 30, 2019 under its emergency procedures, based on harm to public due to an unanticipated/unforeseen natural disaster event that occurred beyond ED's control.

Dated: August 22, 2019.
Kate Mullan,
PRA Coordinator, Information Collection Clearance Program, Information Management Branch, Office of the Chief Information Officer.

[FR Doc. 2019-18468 Filed 8-27-19; 8:45 am]

BILLING CODE 4000-01-P